DEPARTMENT OF THE INTERIOR

Bureau of Land Management

[LLNVS00000 L58530000.ES0000 241A; N-75701; 10-08807; MO# 4500014072; TAS:14X5232]

Notice of Realty Action: Recreation and Public Purposes Act Classification, Clark County, NV

AGENCY: Bureau of Land Management, Interior.

ACTION: Notice of Realty Action.

SUMMARY: The Bureau of Land Management (BLM) has examined and found suitable for classification for lease and/or conveyance under the provisions of the Recreation and Public Purposes (R&PP) Act, as amended, approximately 303.66 acres of public land in Clark County, Nevada. Clark County proposes to use the land for a regional park.

DATES: Interested parties may submit written comments regarding the proposed classification for lease and/or conveyance of the land until February 14, 2011.

ADDRESSES: Mail written comments to the BLM Field Manager, Las Vegas Field Office, 4701 N. Torrey Pines Drive, Las Vegas, Nevada 89130.

FOR FURTHER INFORMATION CONTACT: Dorothy Dickey, (702) 515-5119, e-mail: Dorothy_Dickey@blm.gov.

SUPPLEMENTARY INFORMATION: In accordance with Section 7 of the Taylor Grazing Act, (43 U.S.C. 315f) and Executive Order No. 6910, the following described public land in Clark County, Nevada, has been examined and found suitable for classification for lease and/or conveyance under the provisions of the R&PP Act:

Mount Diablo Meridian

T. 20 S., R. 59 E.,

Sec. 1, lot 1, E½SW¼NE¼, SW¼SW¼NE¼, SE¼NE¼, E½SE¼.

T. 20 S., R. 60 E.,

Sec. 6, lots 5, 6, and 7.

The area described contains 303.66 acres, more or less, in Clark County.

This description will be refined upon final approval of the official plat of survey.

The parcel is located in the northwest part of the Las Vegas Valley and contains the geologic feature known locally as Lone Mountain. The park is generally south of the intersection between Lone Mountain Road and the Bruce Woodbury Beltway.

In accordance with the R&PP Act, Clark County has filed an application in which it proposes to develop the above-described land as a regional park with a recreation center, swimming pool, library, ball fields, tennis courts, basketball courts, playground, children's play area, restrooms, picnic areas, trailhead facilities, walking and jogging trails, parking lot, turf establishment, landscaping, lighting, utilities and ancillary equipment. Additional detailed information pertaining to this application, plan of development, and site plan is located in case file N-75701, which is available for review at the BLM Las Vegas Field Office at the above address.

Clark County is a political subdivision of the State of Nevada and is therefore a qualified applicant under the R&PP Act.

Subject to limitations prescribed by law and regulation, prior to patent issuance the holder of any right-of-way grant within the lease area may be given the opportunity to amend the right-of-way grant for conversion to a new term, including perpetuity, if applicable.

The land identified is not needed for any Federal purpose. The lease and/or conveyance is consistent with the BLM Las Vegas Resource Management Plan dated October 5, 1998, and would be in the public interest. Clark County has not applied for more than the 640-acre limitation for public purpose uses in a year and has submitted a statement in compliance with the regulations at 43 CFR 2741.4(b).

The lease and/or conveyance, when issued, will be subject to the provisions of the R&PP Act and applicable regulations of the Secretary of the Interior, and will contain the following reservations to the United States:

1. A right-of-way thereon for ditches or canals constructed by the authority of the United States, Act of August 30, 1890 (43 U.S.C. 945); and

2. All minerals shall be reserved to the United States, together with the right to prospect for, mine, and remove such deposits from the same under applicable law and such regulations as the Secretary of the Interior may prescribe.

Any lease and/or conveyance will also be subject to valid existing rights, will contain any terms or conditions required by law (including, but not limited to, any terms or conditions required by 43 CFR 2741.4), and will contain an appropriate indemnification clause protecting the United States from claims arising out of the lessee's/patentee's use, occupancy, or operations on the leased/patented lands. It will also contain any other terms and conditions deemed necessary and appropriate by the Authorized Officer. Any lease and/or conveyance will also be subject to:

1. Right-of-way N-66444 for road and sewer purposes granted to the City of Las Vegas, its successors or assigns, pursuant to the Federal Land Policy and Management Act (FLPMA) of October 21, 1976 (43 U.S.C. 1761);

2. Right-of-way N-52803 for detention basin purposes granted to the City of Las Vegas, its successors or assigns, pursuant to FLPMA;

3. Right-of-way N-62096 for water pipeline purposes granted to the Las Vegas Valley Water District, its successors or assigns, pursuant to FLPMA;

4. Right-of-way N-66793 for telephone line purposes granted to the Central Telephone Co., its successors or assigns, pursuant to FLPMA; and

5. Right-of-way N-74688 and Nev043546 for power line purposes granted to Nevada Power Co., its successors or assigns, pursuant to FLPMA;

On December 29, 2010 the land described above will be segregated from all other forms of appropriation under the public land laws, including the general mining laws, except for lease and/or conveyance under the R&PP Act, leasing under the mineral leasing laws, and disposals under the mineral material disposal laws.

Interested parties may submit written comments on the suitability of the land for a regional park. Comments on the classification are restricted to whether the land is physically suited for the proposal, whether the use will maximize the future use or uses of the land, whether the use is consistent with local planning and zoning, or if the use is consistent with State and Federal programs.

Interested parties may submit written comments regarding the specific use proposed in the application and plan of development, whether the BLM followed proper administrative procedures in reaching the decision, or any other factor not directly related to the suitability of the land for R&PP use.

Only written comments to the Field Manager, BLM Las Vegas Field Office, will be considered properly filed. Any adverse comments will be reviewed by the BLM Nevada State Director who may sustain, vacate, or modify this realty action. In the absence of any adverse comments, the classification of the land described in this notice will become effective on February 28, 2011. The land will not be available for lease or conveyance until after the classification becomes effective.

Before including your address, phone number, e-mail address, or other personal identifying information in your comment, you should be aware that your entire comment—including your personal identifying information—may be made publicly available at any time. While you can ask us in your comment to withhold your personal identifying information from public review, we cannot guarantee that we will be able to do so.

Authority: 43 CFR 2741.5.

Beth Ransel,
Acting Assistant Field Manager, Division of Lands, Las Vegas Field Office.

[FR Doc. 2010-32870 Filed 12-28-10; 8:45 am]

BILLING CODE 4310-HC-P